DEPARTMENT OF COMMERCE

National Oceanic and Atmospheric Administration

Proposed Information Collection; Comment Request; West Coast Region Permits Family of Forms—Southwest

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 9, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Shannon Penna, National Marine Fisheries Service (NMFS), West Coast Region (WCR) Long Beach Office, 501 West Ocean Blvd., Suite 4200, Long Beach, CA 90802, (562) 980-4238 or Shannon.Penna@nooa.gov.

SUPPLEMENTARY INFORMATION:

I. Abstract

This request is for a revision and extension to the existing reporting requirements approved under OMB Control Number 0648-0204, West Coast Region Family of Forms. The West Coast Region (WCR) Permits Office administers permits required for persons to participate in Federally-managed fisheries off the West Coast under the Magnuson-Stevens Fishery Conservation and Management act, 16 U.S.C. 1801 et seq. There are three types of permits: Basic fishery permits for Highly Migratory Species (HMS), limited entry permits for Coastal Pelagic Species (CPS), and experimental fishing permits (EFP). The WCR Permits Office proposes to revise one permit within the collection of information approved under OMB Control Number 0648-0204.

Currently, under 50 CFR part 660.707, HMS permits are issued to vessels that fish for HMS off or land HMS in the States of California, Oregon, and Washington. Permits are issued for a 2-year term and remain valid until the first date of renewal. The Inter-American Tropical Tuna Commission (IATTC) adopted amended Resolution C-11-06 which requires a vessel on the IATTC regional vessel registry to add a photograph of the vessel showing its identifying vessel markings. NMFS proposed to revise OMB Control Number 0648-0204 to require new and renewing applicants to submit a vessel photo with their application. Owners can email or mail photographs to the Long Beach Permits Office, which in turn will be submitted to the IATTC vessel database manager. Online submission option is expected to be available through the National Permits System (NPS) by 2016 year-end.

NMFS estimates this revision could affect up to 1639 respondents, which is the total number of permitted HMS vessels. Currently, HMS renewal forms are mailed to permit holders within 60 days prior to expiration. To reduce the expected burden from photo submission, pre-filled renewal forms with basic data will substitute the current renewal application. Forms can be completed by signing and dating a statement of acknowledgement that all current information is correct.

The basic information collected from applicants will remain the same. There will be minimal expected public burden to submit photographs, which will not apply after the initial photo is submitted. There will be no additional burden beyond the estimated application processing time or recordkeeping/reporting costs.

II. Method of Collection

Forms are available on the Internet; paper applications are also available and may be submitted by mail to the Long Beach Permits Office. In addition, an online submission option is available for Highly Migratory Species through the National Permits System.

III. Data

OMB Control Number: 0648-0204.

Form Number(s): None.

Type of Review: Regular submission (revision and extension of a current information collection).

Affected Public: Business or other for-profit organizations.

Estimated Number of Respondents: 1,475 (HMS), 65 (CPS).

Estimated Time per Response: HMS permit renewal applications, 3 minutes; CPS transfers, 15 minutes; new HMS permits, 60 minutes; photo requirement, 30 minutes; additional information (when requested) for the CPS fishery, 1 hour; appeals, 2 hours.

Estimated Total Annual Burden Hours: 206.

Estimated Total Annual Cost to Public: $21,024.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 3, 2016.
Sarah Brabson,
NOAA PRA Clearance Officer.

[FR Doc. 2016-05227 Filed 3-8-16; 8:45 am]

BILLING CODE 3510-22-P.